DEPARTMENT OF COMMERCE

Submission for OMB Review; Comment Request

The Department of Commerce has submitted to the Office of Management and Budget (OMB) for clearance the following proposal for collection of information under the provisions of the Paperwork Reduction Act (44 U.S.C. Chapter 35).

AGENCY: National Institute of Standards and Technology (NIST).

Title: Industrial Research Institute (IRI) Study on Investment Decision Tools for High-Risk/High-Payoff Research & Development.

Form Number: None.

OMB Approval Number: None.

Type of Request: Regular.

Number of Respondents: 80.

Average Hours Per Response: Baseline Survey 15 minutes; teleconference follow-up interviews 30 minutes; annual survey 10 minutes.

Needs and Uses: This information will be collected in conjunction with a joint study by the IRI and NIST to understand the investment decision-tools that medium-to-large companies use for funding high-risk technology development. The information collected from IRI member-companies will help the Advanced Technology Program to make more informed decisions when evaluating funding proposals. IRM and its member companies will learn which methods are most cost-effective for making investment decisions regarding high-risk-high-payoff R&D.

Affected Public: Business or other for-profit organizations.

Frequency: Annual, semi-annually.

Respondent's Obligation: Voluntary.

OMB Desk Officer: David Rostker, (202) 395-3897.

Copies of the above information collection proposal can be obtained by calling or writing Madeleine Clayton, Departmental Paperwork Clearance Officer, (202) 482-3129, Department of Commerce, Room 6608, 14th and Constitution Avenue, NW., Washington, DC 20230 (or via the Internet at MClayton@doc.gov).

Written comments and recommendations for this proposed information collection should be sent within 30 days of publication of this notice to David Rostker, OMB Desk Officer, Room 10202, New Executive Office Building, Washington, DC 20503.

Dated: August 26, 2002.
Madeleine Clayton,
Departmental Paperwork Clearance Officer, Office of the Chief Information Officer.

[FR Doc. 02-22154 Filed 8-29-02; 8:45 am]

BILLING CODE 3510-13-P